DEPARTMENT OF COMMERCE

National Oceanic and Atmospheric Administration

50 CFR Part 648

[Docket No. 010208032-1109-02; I.D. 121901B]

Fisheries of the Northeastern United States; Atlantic Bluefish Fishery; Commercial Quota Transfer

AGENCY: National Marine Fisheries Service (NMFS), National Oceanic and Atmospheric Administration (NOAA), Commerce.

ACTION: Commercial quota transfer; fishery reopening.

SUMMARY: NMFS announces that the State of Maine, the Commonwealth of Massachusetts, the State of Connecticut, the State of Florida, and the State of Maryland have transferred a total of 434,000 lb (196,859 kg) of commercial bluefish quota to the State of North Carolina from their respective 2001 quotas. NMFS also announces that the Commonwealth of Massachusetts has transferred 100,000 lb (45,359 kg) of commercial bluefish quota to the State of New York from its 2001 quota. NMFS has adjusted the quotas and announces the revised commercial quotas of Atlantic bluefish for each state involved, and announces the reopening of the commercial bluefish fishery in New York. This action is permitted under the regulations implementing the Fishery Management Plan for the Bluefish Fishery (FMP) and is intended to reduce discards and economic impacts in the North Carolina commercial bluefish fishery.

DATES: Effective December 21, 2001 through December 31, 2001.

FOR FURTHER INFORMATION CONTACT: Allison Ferreira, Fishery Management Specialist, (978) 281-9103, fax (978)281-9135, e-mail Allison.Ferreira@noaa.gov.

SUPPLEMENTARY INFORMATION: Regulations governing the Atlantic bluefish fishery are found at 50 CFR part 648. The regulations require annual specification of a commercial quota that is apportioned among the coastal states from Maine through Florida. The process to set the annual commercial quota and the percent allocated to each state are described in § 648.160. The initial total commercial quota for bluefish for the 2001 calendar year was set equal to 9,583,010 lb (4,348,008 kg) (66 FR 23625, May 9, 2001). The resulting quota for North Carolina was 3,072,386 lb (1,394,005 kg), for New York was 995,204 lb (451,417 kg), for Maine was 64,062 lb (29,066 kg), for Connecticut was 121,350 lb (55,059 kg), for Florida was 964,021 lb (437,396 kg), for Virginia was 1,138,412 lb (516,521 kg) and for Maryland was 287,662 lb (130,518 kg).The commercial quota for North Carolina was attained and the fishery closed on May 15, 2001 (May 16, 2001; 66 FR 27043). Through a quota transfer from the State of Maryland, the Commonwealth of Virginia, and the State of Florida, the Atlantic bluefish fishery in North Carolina was reopened on August 2, 2001 (August 7, 2001; 66 FR 41151). As a result of this quota transfer, the revised quotas for the calendar year 2001 were: Maryland, 187,662 lb (85,122 kg); Virginia, 838,412 lb (380,405 kg); Florida, 664,021 (301,195 kg); and North Carolina, 3,772,386 lb (1,711,126 kg).

The commercial quota for the State of New York was adjusted effective November 15, 2001, by means of a quota transfer of 100,000 lb (45,359 kg) from the Commonwealth of Virginia (November 15, 2001; 66 FR 57398). The revised quota for the 2001 calendar year for the State of New York was 1,095,204 lb (496,784 kg), and for Virginia was 738,412 lb (335,045 kg). However, this revised quota was exceeded, and the commercial bluefish fishery in New York closed effective December 3, 2001 (December 4, 2001; 66 FR 63003).

The final rule implementing Amendment 1 to the FMP was published on July 26, 2000 (65 FR 45844), and allows two or more states, under mutual agreement and with the concurrence of the Administrator, Northeast Region, NMFS (Regional Administrator), to transfer or combine part or all of their annual commercial quota. The Regional Administrator must consider the criteria set forth in § 648.160(f)(1) in the evaluation of requests for quota transfers or combinations.

Maine, Massachusetts, Connecticut, Florida, and Maryland have agreed to transfer 64,000 lb (29,030 kg), 100,000 lb (45,359 kg), 70,000 lb (31,751 kg), 100,000 lb (45,359 kg), and 100,000 lb (45,359 kg) of their respective 2001 commercial quotas to North Carolina. In addition, the Commonwealth of Massachusetts has agreed to transfer 100,000 lb (45,359 kg) of its 2001 commercial quota to New York. The Regional Administrator has determined that the criteria set forth in §648.160(f)(1) have been met, and publishes this notification of quota transfer. The revised quotas for the calendar year 2001 are: Maine 62 lb (28 kg); Massachusetts 443,661 lb (201,241 kg); Connecticut 51,350 lb (23,292 kg); New York, 1,195,204 lb (542,135 kg); Florida, 564,021 lb (255,836 kg); Maryland, 87,662 lb (39,763 kg); and North Carolina 4,206,386 lb (1,907,985 kg).

This action does not alter any of the conclusions reached in the environmental impact statement prepared for Amendment 1 to the FMP regarding the effects of bluefish fishing activity on the human environment. Amendment 1 established procedures for setting an annual coastwide commercial quota for bluefish and a formula for determining the commercial quota for each state. Amendment 1 also established the quota transfer provision. This is a routine administrative action that reallocates commercial quota within the scope of previously published environmental analyses.

Classification

This action is taken under 50 CFR part 648 and is exempt from review under E.O. 12866.

Authority: 16 U.S.C. 1801 et seq.

Dated: December 20, 2001.
Jonathan Kurland,
Acting Director, Office of Sustainable Fisheries, National Marine Fisheries Service.

[FR Doc. 01-31966 Filed 12-21-01; 2:27 pm]

BILLING CODE 3510-22-S